ENVIRONMENTAL PROTECTION AGENCY

40 CFR Part 52

[AL-200311; FRL-7444-7]

Approval and Promulgation of Air Quality Implementation Plans; Alabama Update to Materials Incorporated by Reference

AGENCY: Environmental Protection Agency (EPA).

ACTION: Final rule; notice of administrative change.

SUMMARY: EPA is updating the materials submitted by Alabama that are incorporated by reference (IBR) into the State implementation plan (SIP). The regulations affected by this update have been previously submitted by the State agency and approved by EPA. This update affects the SIP materials that are available for public inspection at the Office of the Federal Register (OFR), Office of Air and Radiation Docket and Information Center, and the Regional Office.

EFFECTIVE DATE: This action is effective February 3, 2003.

ADDRESSES: SIP materials which are incorporated by reference into 40 CFR part 52 are available for inspection at the following locations: Environmental Protection Agency, Region 4, 61 Forsyth Street, SW., Atlanta, GA 30303; Office of Air and Radiation Docket and Information Center, Room B-108, 1301 Constitution Avenue, (Mail Code 6102T) NW., Washington, DC 20460, and Office of the Federal Register, 800 North Capitol Street, NW., Suite 700, Washington, DC.

FOR FURTHER INFORMATION CONTACT: Mr. Sean Lakeman at the above Region 4 address or at (404) 562-9043.

SUPPLEMENTARY INFORMATION: The SIP is a living document which the State can revise as necessary to address the unique air pollution problems in the state. Therefore, EPA from time to time must take action on SIP revisions containing new and/or revised regulations as being part of the SIP. On May 22, 1997 (62 FR 27968), EPA revised the procedures for incorporating by reference Federally-approved SIPs, as a result of consultations between EPA and OFR. The description of the revised SIP document, IBR procedures and “Identification of plan” format are discussed in further detail in the May 22, 1997, Federal Register document. On December 22, 1998, EPA published a document in the Federal Register (63 FR 70669) beginning the new IBR procedure for Alabama. In this document EPA is doing the update to the material being IBRed.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 4, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 16, 2003.
A. Stanley Meiburg,
Acting Regional Administrator, Region 4.

Chapter I, title 40, Code of Federal Regulations, is amended as follows:

PART 52—[AMENDED]

1. The authority for citation for part 52 continues to read as follows:

Authority: 42 U.S.C. 7401 et seq.

Subpart B—Alabama

2. Section 52.50 paragraph (b), (c), (d) and (e) are revised to read as follows:

§ 52.50 Identification of plan.

* * * * *

(b) Incorporation by reference.

(1) Material listed in paragraph (c) and (d) of this section with an EPA approval date prior to January 1, 2003, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after January 1, 2003, will be incorporated by reference in the next update to the SIP compilation.

(2) EPA Region 4 certifies that the rules/regulations provided by EPA in the SIP compilation at the addresses in paragraph (b)(3) of this section are an exact duplicate of the officially promulgated State rules/regulations which have been approved as part of the State implementation plan as of January 1, 2003.

(3) Copies of the materials incorporated by reference may be inspected at the Region 4 EPA Office at 61 Forsyth Street, SW., Atlanta, GA 30303; the Office of the Federal Register, 800 North Capitol Street, NW., Suite 700, Washington, DC; or at the EPA, Office of Air and Radiation Docket and Information Center, Room B-108, 1301 Constitution Avenue, (Mail Code 6102T) NW., Washington, DC 20460.

(c) EPA approved Alabama regulations.

EPA Approved Alabama Regulations
State citation | Title/subject | State effective date | EPA approval date | Explanation
Chapter No. 335-3-1 General Provision
Section 335-3-1-.01 | Purpose | 06/22/89 | 03/19/90 55 FR 10062
Section 335-3-1-.02 | Definitions | 08/10/00 | 12/08/00 65 FR 76940
Section 335-3-1-.03 | Ambient Air Quality Standards | 10/13/98 | 03/01/99 64 FR 9918
Section 335-3-1-.04 | Monitoring, Records, and Reporting | 10/15/96 | 06/06/97 62 FR 30991
Section 335-3-1-.05 | Sampling and Test Methods | 06/22/89 | 03/19/90 55 FR 10062
Section 335-3-1-.06 | Compliance Schedule | 10/15/96 | 06/06/97 62 FR 30991
Section 335-3-1-.07 | Maintenance and Malfunctioning of Equipment; Reporting | 10/15/89 | 03/19/90 55 FR 10062
Section 335-3-1-.08 | Prohibition of Air Pollution | 08/10/00 | 12/08/00 65 FR 76940
Section 335-3-1-.09 | Variances | 10/15/96 | 06/06/97 62 FR 30991
Section 335-3-1-.10 | Circumvention | 06/22/89 | 03/19/90 55 FR 10062
Section 335-3-1-.11 | Severability | 10/15/96 | 06/06/97 62 FR 30991
Section 335-3-1-.12 | Bubble Provision | 06/22/89 | 03/19/90 55 FR 10062
Section 335-3-1-.13 | Credible Evidence | 04/13/99 | 11/03/99 64 FR 59633
Section 335-3-1-.14 | Emissions Reporting Requirements Relating to Budgets for NOX Emissions | 04/06/01 | 07/16/01 66 FR 36921
Chapter No. 335-3-2 Air Pollution Emergency
Section 335-3-2-.01 | Air Pollution Emergency | 06/22/89 | 03/19/90 55 FR 10062
Section 335-3-2-.02 | Episode Criteria | 08/10/00 | 12/08/00 65 FR 76940
Section 335-3-2-.03 | Special Episode Criteria | 06/22/89 | 03/19/90 55 FR 10062
Section 335-3-2-.04 | Emission Reduction Plans | 06/22/89 | 03/19/90 55 FR 10062
Section 335-3-2-.05 | Two Contaminant Episode | 06/22/89 | 03/19/90 55 FR 10062
Section 335-3-2-.06 | General Episodes | 06/22/89 | 03/19/90 55 FR 10062
Section 335-3-2-.07 | Local Episodes | 06/22/89 | 03/19/90 55 FR 10062
Section 335-3-2-.08 | Other Sources | 10/15/96 | 06/06/97 62 FR 30991
Section 335-3-2-.09 | Other Authority Not Affected | 06/22/89 | 03/19/90 55 FR 10062
Chapter No. 335-3-3 Control of Open Burning and Incineration
Section 335-3-3-.01 | Open Burning | 08/10/00 | 12/08/00 65 FR 76940
Section 335-3-3-.02 | Incinerators | 06/22/89 | 03/19/90 55 FR 10062
Section 335-3-3-.03 | Incineration of Wood, Peanut, and Cotton Ginning Waste | 08/10/00 | 12/08/00 65 FR 76940
Chapter No. 335-3-4 Control of Particulate Emissions
Section 335-3-4-.01 | Visible Emissions | 10/15/96 | 06/06/97 62 FR 30991
Section 335-3-4-.02 | Fugitive Dust and Fugitive Emissions | 10/15/96 | 06/06/97 62 FR 30991
Section 335-3-4-.03 | Fuel Burning Equipment | 10/15/96 | 06/06/97 62 FR 30991
Section 335-3-4-.04 | Process Industries—General | 10/15/96 | 06/06/97 62 FR 30991
Section 335-3-4-.05 | Small Foundry Cupola | 06/22/89 | 03/19/90 55 FR 10062
Section 335-3-4-.06 | Cotton Gins | 06/22/89 | 03/19/90 55 FR 10062
Section 335-3-4-.07 | Kraft Pulp Mills | 10/15/96 | 06/06/97 62 FR 30991
Section 335-3-4-.08 | Wood Waste Boilers | 08/10/00 | 12/08/00 65 FR 76940
Section 335-3-4-.09 | Coke Ovens | 08/10/00 | 12/08/00 65 FR 76940
Section 335-3-4-.10 | Primary Aluminum Plants | 06/22/89 | 03/19/90 55 FR 10062
Section 335-3-4-.11 | Cement Plants | 10/15/96 | 06/06/97 62 FR 30991
Section 335-3-4-.12 | Xylene Oxidation Process | 06/22/89 | 03/19/90 55 FR 10062
Section 335-3-4-.13 | Sintering Plants | 06/22/89 | 03/19/90 55 FR 10062
Section 335-3-4-.14 | Grain Elevators | 10/15/96 | 06/06/97 62 FR 30991
Section 335-3-4-.15 | Secondary Lead Smelters | 10/15/96 | 06/06/97 62 FR 30991
Section 335-3-4-.17 | Steel Mills Located in Etowah County | 10/15/96 | 06/06/97 62 FR 30991
Chapter No. 335-3-5 Control of Sulfur Compound Emissions
Section 335-3-5-.01 | Fuel Combustions | 10/15/96 | 06/06/97 62 FR 30991
Section 335-3-5-.02 | Sulfuric Acid Plants | 10/15/96 | 06/06/97 62 FR 30991
Section 335-3-5-.03 | Petroleum Production | 08/10/00 | 12/08/00 65 FR 76940
Section 335-3-5-.04 | Kraft Pulp Mills | 08/10/00 | 12/08/00 65 FR 76940
Section 335-3-5-.05 | Process Industries—General | 06/22/89 | 03/19/90 55 FR 10062
Chapter No. 335-3-6 Control of Organic Emissions
Section 335-3-6-.01 | Applicability | 10/15/96 | 06/06/97 62 FR 30991
Section 335-3-6-.02 | VOC Water Separation | 06/22/89 | 03/19/90 55 FR 10062
Section 335-3-6-.03 | Loading and Storage of VOC | 06/22/89 | 03/19/90 55 FR 10062
Section 335-3-6-.04 | Fixed-Roof Petroleum Liquid Storage Vessels | 10/15/96 | 06/06/97 62 FR 30991
Section 335-3-6-.05 | Bulk Gasoline Plants | 10/15/96 | 06/06/97 62 FR 30991
Section 335-3-6-.06 | Bulk Gasoline Terminals | 08/10/00 | 12/08/00 65 FR 76940
Section 335-3-6-.07 | Gasoline Dispensing Facilities—Stage I | 10/15/96 | 06/06/97 62 FR 30991
Section 335-3-6-.08 | Petroleum Refinery Sources | 06/22/89 | 03/19/90 55 FR 10062
Section 335-3-6-.09 | Pumps and Compressors | 06/22/89 | 03/19/90 55 FR 10062
Section 335-3-6-.10 | Ethylene Producing Plants | 06/22/89 | 03/19/90 55 FR 10062
Section 335-3-6-.11 | Surface Coating | 10/15/96 | 06/06/97 62 FR 30991
Section 335-3-6-.12 | Solvent Metal Cleaning | 10/15/96 | 06/06/97 62 FR 30991
Section 335-3-6-.13 | Cutback Asphalt | 10/15/96 | 06/06/97 62 FR 30991
Section 335-3-6-.14 | Petition for Alternative Controls | 06/22/89 | 03/19/90 55 FR 10062
Section 335-3-6-.15 | Compliance Schedules | 10/15/96 | 06/06/97 62 FR 30991
Section 335-3-6-.16 | Test Methods and Procedures | 08/10/00 | 12/08/00 65 FR 76940
Section 335-3-6-.17 | Manufacture of Pneumatic Tires | 10/15/95 | 06/06/97 62 FR 30991
Section 335-3-6-.18 | Manufacture of Synthesized Pharmaceutical Products | 10/15/96 | 06/06/97 62 FR 30991
Section 335-3-6-.19 | Reserved |  |
Section 335-3-6-.20 | Leaks from Gasoline Tank Trucks and Vapor Collection Systems | 10/15/96 | 06/06/97 62 FR 30991
Section 335-3-6-.21 | Leaks from Petroleum Refinery Equipment | 10/15/96 | 06/06/97 62 FR 30991
Section 335-3-6-.22 | Graphic Arts | 10/15/96 | 06/06/97 62 FR 30991
Section 335-3-6-.23 | Petroleum Liquid Storage in External Floating Roof Tanks | 10/15/96 | 06/06/97 62 FR 30991
Section 335-3-6-.24 | Applicability | 10/15/96 | 06/06/97 62 FR 30991
Section 335-3-6-.25 | VOC Water Separation | 06/22/89 | 03/19/90 55 FR 10062
Section 335-3-6-.26 | Loading and Storage of VOC | 06/22/89 | 03/19/90 55 FR 10062
Section 335-3-6-.27 | Fixed-Roof Petroleum Liquid Storage Vessels | 10/15/96 | 06/06/97 62 FR 30991
Section 335-3-6-.28 | Bulk Gasoline Plants | 10/15/96 | 06/06/97 62 FR 30991
Section 335-3-6-.29 | Gasoline Terminals | 10/15/96 | 06/06/97 62 FR 30991
Section 335-3-6-.30 | Gasoline Dispensing Facilities Stage I | 10/15/96 | 06/06/97 62 FR 30991
Section 335-3-6-.31 | Petroleum Refinery Sources | 06/22/89 | 03/19/90 55 FR 10062
Section 335-3-6-.32 | Surface Coating | 10/15/96 | 06/06/97 62 FR 30991
Section 335-3-6-.33 | Solvent Metal Cleaning | 06/22/89 | 03/19/90 55 FR 10062
Section 335-3-6-.34 | Cutback Asphalt | 10/15/96 | 06/06/97 62 FR 30991
Section 335-3-6-.35 | Petition for Alternative Controls | 06/22/89 | 03/19/90 55 FR 10062
Section 335-3-6-.36 | Compliance Schedules | 10/15/96 | 06/06/97 62 FR 30991
Section 335-3-6-.37 | Test Methods and Procedures | 10/15/96 | 06/06/97 62 FR 30991 |
Section 335-3-6-.38 | Manufacture of Pneumatic Tires | 06/22/89 | 03/19/90 55 FR 10062 |
Section 335-3-6-.39 | Manufacture of Synthesized Pharmaceutical Products | 10/15/96 | 06/06/97 62 FR 30991 |
Section 335-3-6-.40 | Reserved |  |  |
Section 335-3-6-.41 | Leaks from Gasoline Tank Trucks and Vapor Collection Systems | 10/15/96 | 06/06/97 62 FR 30991 |
Section 335-3-6-.42 | Leaks from Petroleum Refinery Equipment | 10/15/96 | 06/06/97 62 FR 30991 |
Section 335-3-6-.43 | Graphic Arts | 06/22/89 | 03/19/90 55 FR 10062 |
Section 335-3-6-.44 | Petroleum Liquid Storage in External Floating Roof Tanks | 10/15/96 | 06/06/97 62 FR 30991 |
Section 335-3-6-.45 | Large Petroleum Dry Cleaners | 10/15/96 | 06/06/97 62 FR 30991 |
Section 335-3-6-.46 | Aerospace Assembly and Component and Component Coatings Operation | 06/22/89 | 03/19/09 55 FR 10062 |
Section 335-3-6-.47 | Leaks from Coke by-Product Recovery Plant Equipment | 10/15/96 | 06/06/97 62 FR 30991 |
Section 335-3-6-.48 | Emissions from Coke by-Product Recovery Plant Coke Oven Gas Bleeder | 10/15/96 | 06/06/97 62 FR 30991 |
Section 335-3-6-.49 | Manufacture of Laminated Countertops | 06/22/89 | 03/19/90 55 FR 10062 |
Section 335-3-6-.50 | Paint Manufacture | 10/15/96 | 06/06/97 62 FR 30991 |
Section 335-3-6-.53 | List of EPA Approved and Equivalent Test Methods and Procedures for the Purpose of Determining VOC Emissions | 06/26/91 | 09/27/91 58 FR 50262
Chapter No. 335-3-7 Carbon Monoxide Emissions
Section 335-3-7-.01 | Metals Productions | 06/22/89 | 03/19/90 55 FR 10062 |
Section 335-3-7-.02 | Petroleum Processes | 06/22/89 | 03/19/90 55 FR 10062
Chapter No. 335-3-8 Nitrogen Oxides Emissions
Section 335-3-8-.01 | Standards for Portland Cement Kilns | 04/06/01 | 07/17/01 66 FR 36921 |
Section 335-3-8-.02 | Nitric Acid Manufacturing | 10/15/96 | 06/06/97 62 FR 30991 |
Section 335-3-8-.03 | NOX Emissions from Electric Utility Generating Units | 10/24/00 | 11/07/01 66 FR 56223 |
Section 335-3-8-.04 | Standards for Stationary Reciprocating Internal Combustion Engines (Reserved) | 04/06/01 | 07/17/01 66 FR 36921 |
Section 335-3-8-.05 | NOX Budget Trading Program | 04/06/01 | 07/17/01 66 FR 36921 |
Section 335-3-8-.06 | Authorized Account Representative for NOX Budget Sources | 04/06/01 | 07/17/01 66 FR 36921 |
Section 335-3-8-.07 | Permits | 04/06/01 | 07/17/01 66 FR 36921 |
Section 335-3-8-.08 | Compliance Certification | 04/06/01 | 07/17/01 66 FR 36921 |
Section 335-3-8-.09 | NOX Allowance Allocations | 04/06/01 | 07/17/01 66 FR 36921 |
Section 335-3-8-.10 | NOX Allowance Tracking System | 04/06/01 | 07/17/01 66 FR 36921 |
Section 335-3-8-.11 | NOX Allowance Transfers | 04/06/01 | 07/17/01 66 FR 36921 |
Section 335-3-8-.12 | Monitoring and Reporting | 04/06/01 | 07/17/01 66 FR 36921 |
Section 335-3-8-.13 | Individual Unit Opt-ins | 05/07/02 | 07/17/01 66 FR 36921 |
Section 335-3-8-.14 | New Combustion Sources | 04/06/01 | 07/17/01 66 FR 36921
Chapter No. 335-3-9 Control Emissions From Motor Vehicles
Section 335-3-9-.01 | Visible Emission Restriction for Motor Vehicles | 10/15/96 | 06/06/97 62 FR 30991 |
Section 335-3-9-.02 | Ignition System and Engine Speed | 08/10/00 | 12/08/00 65 FR 76940 |
Section 335-3-9-.03 | Crankcase Ventilation Systems | 08/10/00 | 12/08/00 65 FR 76940 |
Section 335-3-9-.04 | Exhaust Emission Control Systems | 06/22/89 | 03/19/90 55 FR 10062 |
Section 335-3-9-.05 | Evaporative Loss Control Systems | 06/22/89 | 03/19/90 55 FR 10062 |
Section 335-3-9-.06 | Other Prohibited Acts | 08/10/00 | 12/08/00 65 FR 76940 |
Section 335-3-9-.07 | Effective Date | 10/15/96 | 06/06/97 62 FR 30991
Chapter No. 335-3-12 Continuous Monitoring Requirements for Existing Sources
Section 335-3-12-.01 | General | 06/22/89 | 03/19/90 55 FR 10062
Section 335-3-12-.02 | Emission Monitoring and Reporting Requirements | 02/17/98 | 09/14/98 63 FR 49005
Section 335-3-12-.03 | Monitoring System Malfunction | 06/22/89 | 03/19/90 55 FR 10062
Section 335-3-12-.04 | Alternate Monitoring and Reporting Requirements | 06/22/89 | 03/19/90 55 FR 10062
Section 335-3-12-.05 | Exemptions and Extensions | 06/22/89 | 03/19/90 55 FR 10062
Chapter No. 335-3-13 Control of Fluoride Emissions
Section 335-3-13-.01 | General | 10/15/96 | 06/06/97 62 FR 30991
Section 335-3-13-.02 | Superphosphoric Acid Plants | 10/15/96 | 06/06/97 62 FR 30991
Section 335-3-13-.03 | Diammonium Phosphate Plants | 10/15/96 | 06/06/97 62 FR 30991
Section 335-3-13-.04 | Triple Superphosphoric Plants | 10/15/96 | 06/06/97 62 FR 30991
Section 335-3-13-.05 | Granular Triple Superphosphoric Storage Facilities | 10/15/96 | 06/06/97 62 FR 30991
Section 335-3-13-.06 | Wet Process Phosphoric Acid Plants | 10/15/96 | 06/06/97 62 FR 30991
Chapter No. 335-3-14 Air Permits
Section 335-3-14-.01 | General Provisions | 02/17/98 | 09/14/98 63 FR 49008
Section 335-3-14-.02 | Permit Procedures | 10/15/96 | 06/06/97 62 FR 30991
Section 335-3-14-.03 | Standards for Granting Permits | 08/10/96 | 12/02/00 65 FR 76940
Section 335-3-14-.04 | Air Permits Authorizing Construction in Clean Air Areas (prevention of Significant Deterioration (PSD)) | 02/05/02 | 04/20/02 67 FR 17288
Section 335-3-14-.05 | Air Permits Authorizing Construction in or Near Nonattainment Areas | 08/10/00 | 12/02/00 65 FR 76940
Chapter No. 335-3-15 Synthetic Minor Operating Permits
Section 335-3-15-.01 | Definitions | 10/15/96 | 06/06/97 62 FR 30991
Section 335-3-15-.02 | General Provisions | 08/10/00 | 12/02/00 65 FR 76940
Section 335-3-15-.03 | Applicability | 11/23/93 | 10/20/94 59 FR 52916
Section 335-3-15-.04 | Synthetic Minor Operating Permit Requirements | 10/15/96 | 06/06/97 62 FR 30991
Section 335-3-15-.05 | Public Participation | 10/15/96 | 06/06/97 62 FR 30991
Chapter No. 335-3-17 Conformity of Federal Actions to State Implementation Plans
Section 335-3-17-.01 | Transportation Conformity | 03/27/98 | 05/11/00 65 FR 30361
Section 335-3-17-.02 | General Conformity | 03/27/98 | 05/11/00 65 FR 30361
Chapter No. 335-3-20 Control of Fuels
Section 335-3-20-.01 | Definitions | 10/24/00 | 11/07/01 66 FR 56219
Section 335-3-20-.02 | Control of Fuels | 10/24/00 | 11/07/01 66 FR 56219
Section 335-3-20-.03 | Recordkeeping, Reporting, and Testing | 10/24/00 | 11/07/01 66 FR 56219

(d) EPA approved Alabama source specific requirements.

EPA Approved Alabama Source-Specific Requirements
Name of source | Permit No. | State effective date | EPA approval date | Explanation
None.

(e) EPA approved Alabama non-regulatory provisions.

EPA Approved Alabama Non-regulatory Provisions
Name of nonregulatory SIP provision | Applicable geographic or nonattainment area | State submittal date/effective date | EPA approval date | Explanation
Birmingham 1990 Baseline Emissions Inventory | Birmingham Ozone Nonattainment Area | 11/13/92 | 06/04/99 64 FR 29961 |
Alabama Interagency Transportation Conformity Memorandum of Agreement |  | 01/20/00 | 05/11/00 65 FR 30362
Alabama Fuel Waiver Request-Appendix II of Attainment Demonstration of the 1-hour NAAQS for Ozone for the Birmingham Nonattainment Area | Birmingham Ozone Nonattainment Area | 12/01/00 | 11/07/01 66 FR 56220
Attainment Demonstration of the 1-hour NAAQS for Ozone for the Birmingham Nonattainment Area | Birmingham Ozone Nonattainment Area 1 | 2/01/00 | 11/07/01 66 FR 56224

[FR Doc. 03-2172 Filed 1-31-03; 8:45 am]

BILLING CODE 6560-50-P